DEPARTMENT OF AGRICULTURE

Grain Inspection, Packers and Stockyards Administration

[03-04-A]

Opportunity for Designation in the East Indiana (IN), Fremont (NE), and Titus (IN) Areas, and Request for Comments on the Official Agencies Serving These Areas

AGENCY: Grain Inspection, Packers and Stockyards Administration, USDA.

ACTION: Notice.

SUMMARY: The designations of the official agencies listed below will end in June 2004. Grain Inspection, Packers and Stockyards Administration (GIPSA) is asking persons interested in providing official services in the areas served by these agencies to submit an application for designation. GIPSA is also asking for comments on the quality of services provided by these currently designated agencies: East Indiana Grain Inspection, Inc. (East Indiana); Fremont Grain Inspection Department, Inc. (Fremont); and Titus Grain Inspection, Inc. (Titus).

DATES: Applications and comments must be postmarked or electronically dated on or before January 2, 2004.

ADDRESSES: Submit applications and comments to USDA, GIPSA, Janet M. Hart, Chief, Review Branch, Compliance Division, STOP 3604, Room 1647-S, 1400 Independence Avenue, SW., Washington, DC 20250-3604; Fax (202) 690-2755. If an application is submitted by FAX, GIPSA reserves the right to request an original application. All applications and comments will be made available for public inspection at Room 1647-S, 1400 Independence Avenue, SW., during regular business hours.

FOR FURTHER INFORMATION CONTACT: Janet M. Hart at (202) 720-8525, e-mail Janet.M.Hart@usda.gov.

SUPPLEMENTARY INFORMATION: This Action has been reviewed and determined not to be a rule or regulation as defined in Executive Order 12866 and Departmental Regulation 1512-1; therefore, the Executive Order and Departmental Regulation do not apply to this Action.

Section 7(f)(1) of the United States Grain Standards Act, as amended (Act), authorizes GIPSA's Administrator to designate a qualified applicant to provide official services in a specified area after determining that the applicant is better able than any other applicant to provide such official services.

Section 7(g)(1) of the Act provides that designations of official agencies shall end not later than triennially and may be renewed according to the criteria and procedures prescribed in Section 7(f) of the Act.

1. Current Designations Being Announced for Renewal

Official agency | Main office | Designation start | Designation end
East Indiana | Muncie, IN | 9/01/2001 | 6/30/2004
Fremont | Fremont, NE | 9/01/2001 | 6/30/2004
Titus | West Lafayette, IN | 9/01/2001 | 6/30/2004

a. Pursuant to section 7(f)(2) of the Act, the following geographic area, in the States of Indiana and Ohio, is assigned to East Indiana.

In Indiana:

Bounded on the North by the northern and eastern Grant County lines; the northern Blackford, and Jay County lines;

Bounded on the East by the eastern Jay, Randolph, Wayne, and Union County lines;

Bounded on the South by the southern Union and Fayette County lines; the eastern Rush County line south to State Route 244; State Route 244 west to the Rush County line; and

Bounded on the West by the western Rush and Henry County lines; the southern Madison County line west to State Route 13; State Route 13 north to State Route 132; State Route 132 northwest to Madison County; the western and northern Madison County lines; the northern Delaware County line; the western Blackford County line north to State Route 18; State Route 18 west to County Highway 900E; County Highway 900E north to the northern Grant County line.

Darke County, Ohio.

b. Pursuant to section 7(f)(2) of the Act, the following geographic area, in the States of Iowa and Nebraska, is assigned to Fremont.

Carroll (west of U.S. Route 71); Clay (west of U.S. Route 71); Crawford; Dickinson (west of U.S. Route 71); Harrison (east of State Route 183); O'Brien (north of B24 and east of U.S. Route 59); Osceola (east of U.S. Route 59); and Shelby Counties, Iowa.

In Nebraska:

Bounded on the North by U.S. Route 20 east to the Pierce County line; the eastern Pierce County line; the northern Wayne, Cuming, and Burt County lines east to the Missouri River;

Bounded on the East by the Missouri River south-southeast to State Route 91; State Route 91 west to the Dodge County line; the eastern and southern Dodge County lines west to U.S. Route 77; U.S. Route 77 south to the Saunders County line;

Bounded on the South by the southern Saunders, Butler, and Polk County lines; and

Bounded on the West by the western Polk County line north to the Platte River; the Platte River northeast to the western Platte County line; the western and northern Platte County lines east to U.S. Route 81; U.S. Route 81 north to U.S. Route 20.

The following grain elevators, located outside of the above contiguous geographic area, are part of this geographic area assignment: Farmers Cooperative, and Krumel Grain and Storage, both in Wahoo, Saunders County, Nebraska (located inside Omaha Grain Inspection Service, Inc.'s, area).

Fremont's assigned geographic area does not include the following grain elevators inside Fremont's area which have been and will continue to be serviced by the following official agencies: Hastings Grain Inspection, Inc.: Huskers Cooperative Grain Company, Columbus, Platte County, Nebraska; and Omaha Grain Inspection Service, Inc.: United Farmers Coop, Rising City, Butler County, Nebraska; and United Farmers Coop, Shelby, Polk County, Nebraska.

c. Pursuant to Section 7(f)(2) of the Act, the following geographic area, in the State of Indiana, is assigned to Titus.

Bounded on the North by the northern Pulaski County line;

Bounded on the East by the eastern and southern Pulaski County lines; the eastern White County line; the eastern Carroll County line south to State Route 25; State Route 25 southwest to Tippecanoe County; the eastern Tippecanoe County line;

Bounded on the South by the southern Tippecanoe County line; the eastern and southern Fountain County lines west to U.S. Route 41; and

Bounded on the West by U.S. Route 41 north to the northern Benton County line; the northern Benton County line east to State Route 55; State Route 55 north to U.S. Route 24; U.S. Route 24 east to the White County line; the western White and Pulaski County lines.

The following grain elevators, located outside of the above contiguous geographic area, are part of this geographic area assignment: Boswell Chase Grain, Boswell, Benton County; ADM, Dunn, Benton County; ADM, Raub, Benton County (located inside Champaign-Danville Grain Inspection Departments, Inc.'s, area); and The Andersons, Delphi, Carroll County; Frick Services, Inc., Leiters Ford, Fulton County; and Cargill, Inc., Linden, Montgomery County (located inside Frankfort Grain Inspection, Inc.'s, area).

Titus' assigned geographic area does not include the following grain elevators inside Titus' area which have been and will continue to be serviced by the following official agency: Schneider Inspection Service, Inc.: Cargill, Inc., and Farmers Grain, both in Winamac, Pulaski County.

2. Opportunity for Designation

Interested persons, including East Indiana, Fremont, and Titus, are hereby given the opportunity to apply for designation to provide official services in the geographic areas specified above under the provisions of section 7(f) of the Act and section 800.196(d) of the regulations issued thereunder. Designation in the specified geographic areas is for the period beginning July 1, 2004, and ending June 30, 2007. Persons wishing to apply for designation should contact the Compliance Division at the address listed above for forms and information, or obtain applications at the GIPSA Web site, http://www.usda.gov/gipsa/oversight/parovreg.htm.

3. Request for Comments

GIPSA also is publishing this notice to provide interested persons the opportunity to present comments on the quality of services for the East Indiana, Fremont, and Titus official agencies. In commenting on the quality of services, commenters are encouraged to submit pertinent data including information on the timeliness, cost, and scope of services provided. All comments must be submitted to the Compliance Division at the above address.

Applications, comments, and other available information will be considered in determining which applicant will be designated.

Authority: Pub. L. 94-582, 90 Stat. 2867, as amended (7 U.S.C. 71 et seq.).

Donna Reifschneider,
Administrator, Grain Inspection, Packers and Stockyards Administration.

[FR Doc. 03-29555 Filed 11-28-03; 8:45 am]

BILLING CODE 3410-EN-P